DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of November 17 through November 21, 2008.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss of business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

TA-W-64,224; Ryder Integrated Logistics, Inc., Division of Ryder Systems, Moraine, OH: October 10, 2007

The following certifications have been issued. The requirements of Section 222(a)(2)(B) (shift in production) of the Trade Act have been met.

TA-W-64,251; Sperian Fall Protection, Fall Protection Division, Franklin, PA: October 6, 2007

The following certifications have been issued. The requirements of Section 222(b) (supplier to a firm whose workers are certified eligible to apply for TAA) of the Trade Act have been met.

None.

The following certifications have been issued. The requirements of Section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-64,341; Affinia Brake Parts, Inc., Division of Affinia, Inc, Litchfield, IL: August 25, 2008

TA-W-64,402; Major Custom Cable, A Subsidiary of RHC Holding, Inc., Jackson, MO: November 7, 2007

TA-W-63,893; Ingersoll-Rand, Ives Division, New Haven, CT: August 18, 2007

TA-W-64,014; Delphi Corporation, Powertrain Division, Customer Technical Center Michigan, Auburn Hills, MI: September 9, 2007

TA-W-64,018; Creative Converting, A Division of Hoffmaster Group, Appleton, WI: September 9, 2007

TA-W-64,069; Norwalk International Wood Products, Byrdstown, TN: September 15, 2007

TA-W-64,129; Broyhill Furniture Industries, Inc., Lenoir Chair #5, aka Taylorsville Plant, Taylorsville, NC: September 26, 2007

TA-W-64,165; Adrian Fabricators, Inc., Also Known as Cargotainer, Adrian, MI: October 3, 2007

TA-W-64,209; Federal Screw Works, Big Rapids, MI: October 9, 2007

TA-W-64,273; Century Furniture, Casegoods, Hickory, NC: March 29, 2008

TA-W-64,280; Phoenix Leather, Inc., Brockton, MA: October 23, 2007

TA-W-64,315; Volunteer Circuits, Inc., Bells, TN: October 30, 2007

TA-W-64,343; Lear Corporation, Seating Systems Division, Lear Tech Group, Southfield, MI: March 8, 2008

TA-W-64,320; Wearbest Sil-Tex Mills, Ltd., Garfield, NJ: October 30, 2007

TA-W-64,385; Android Industries, LLC, Norcross, GA: November 5, 2007

The following certifications have been issued. The requirements of Section 222(a)(2)(B) (shift in production) and Section 246(a)(3)(A)(ii) of the Trade Act have been met.

TA-W-64,159; Panasonic Automotive Systems Company of America, Division of Panasonic North American, Peachtree City, GA: September 22, 2007

TA-W-64,167; Sanmina-SCI USA, Inc., Printed Circuit Division, Costa Mesa, CA: October 2, 2007

TA-W-64,188; Winston Furniture Company of Alabama, A Subsidiary of Brown Jordan International, Haleyville, AL: October 6, 2007

TA-W-64,192; Freudenberg-NOK, Brake Division, Scottsburg, IN: December 6, 2008

TA-W-64,201; Align Technology, Inc., Order Acquisition Division, Santa Clara, CA: October 9, 2007

TA-W-64,225; Rheem Sales Company, Inc., A Subsidiary of Rheem Manufacturing Co., Milledgeville, GA: October 14, 2007

TA-W-64,249; Gates Corporation, Power Transmission Division, A Subsidiary of Tompkins, Moncks Corner, SC: October 17, 2007

TA-W-64,298; Steel Technologies, Flint, MI: October 27, 2007

TA-W-64,305; Summit Polymers, Inc., Plant 11, Shelbyville, TN: October 29, 2007

TA-W-64,327A; Jatco USA, Inc., Quality Investigations Department, Wixom, MI: October 30, 2007

TA-W-64,327B; Jatco USA, Inc., Administrative Department, Wixom, MI: October 30, 2007

TA-W-64,327; Jatco USA, Inc., Remanufacturing Department, Wixom, MI: October 30, 2007

TA-W-64,362; Lear Corporation, Global Electrical and Electronics Division, Zanesville, OH: December 30, 2008

TA-W-64,390; Sensata Technologies, Inc., Warehouse Facility, Brownsville, TX: November 5, 2007

TA-W-64,403A; Rapco Horizon Company, A Subsidiary of RHC Holdings, Audio Division, Jackson, MO: November 7, 2007

TA-W-64,403; Rapco Horizon Company, A Subsidiary of RHC Holdings, Audio-Advance Division, Advance, MO: November 7, 2007

TA-W-63,889; Harris Stratex Networks Operating Corporation, Microwave Component Operation Division, San Jose, CA: August 5, 2007

TA-W-64,004; Trelleborg Wheel Systems America, Inc., Hartville, OH: September 8, 2007

TA-W-64,244; Nautilus, Inc., Tulsa, OK: October 15, 2010

TA-W-64,253A; Amkor Technology, Inc., Wafer Processing Services Operations Group, Research Triangle Park, NC: November 16, 2007

TA-W-64,253; Amkor Technology, Inc., Morrisville, NC: November 16, 2007

TA-W-64,270; Thermo Fisher Scientific, Anatomical Pathology Division, Fremont, CA: October 22, 2007

TA-W-64,274; Item Eyes, Inc., Subsidiary of The Hamsphire Group, New York, NY: October 23, 2007

TA-W-64,342; Hyosung, Inc., American Steel Cord, Scottsburg, IN: November 3, 2007

TA-W-64,349; Wee Ones, Inc., Paris, MO: October 30, 2007

TA-W-64,365; ElectroCraft New Hampshire, Dover, NH: November 5, 2007

The following certifications have been issued. The requirements of Section 222(b) (supplier to a firm whose workers are certified eligible to apply for TAA) and Section 246(a)(3)(A)(ii) of the Trade Act have been met.

TA-W-64,098; Excello Engineered Systems, LLC, Macedonia, OH: September 16, 2007

TA-W-64,196; Martinrea, Heavy Stamping Division, Shelbyville, KY: October 8, 2007

TA-W-64,303; BSI Safety Textiles, ITG Automotive Safety, South Hill, VA: October 22, 2007

TA-W-64,316; Modern Plastics Corporation, Coloma, MI: October 24, 2007

TA-W-64,333; TrimQuest, LLC, Walker, MI: October 31, 2007

TA-W-64,463; Alltrista Plastics, LLC, d/b/a Jarden Plastic Solutions, Fort Smith, AR: November 18, 2007

The following certifications have been issued. The requirements of Section 222(b) (downstream producer for a firm whose workers are certified eligible to apply for TAA based on increased imports from or a shift in production to Mexico or Canada) and Section 246(a)(3)(A)(ii) of the Trade Act have been met.

None.

Negative Determinations for Alternative Trade Adjustment Assistance

In the following cases, it has been determined that the requirements of 246(a)(3)(A)(ii) have not been met for the reasons specified.

The Department has determined that criterion (1) of Section 246 has not been met. The firm does not have a significant number of workers 50 years of age or older.

TA-W-64,224; Ryder Integrated Logistics, Inc., Division of Ryder Systems, Moraine, OH

The Department has determined that criterion (2) of Section 246 has not been met. Workers at the firm possess skills that are easily transferable.

TA-W-64,251; Sperian Fall Protection, Fall Protection Division, Franklin, PA

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-64,175; Hanley Wood, LLC, Business Media Division, Chicago, MI

The investigation revealed that criteria (a)(2)(A)(I.B.) (Sales or production, or both, did not decline) and (a)(2)(B)(II.B.) (shift in production to a foreign country) have not been met.

TA-W-64,017; The News Messenger, Graphics Department, Fremont, WI

The investigation revealed that criteria (a)(2)(A)(I.C.) (increased imports) and (a)(2)(B)(II.B.) (shift in production to a foreign country) have not been met.

TA-W-63,098; Ineos-Nova, LLC, Belpre, CT

TA-W-64,001; Fleetwood Travel Trailers of Oregon, Inc., La Grande, MI

TA-W-64,124; Certified Metal Finishing, Benton Harbor, TN

TA-W-64,172; Zippo Manufacturing Company, Bradford, NC

TA-W-64,194; Formica Corporation, Evendale, MI

TA-W-64,208; Anchor Glass Container Corporation, Zanesville Mould Division, Zanesville, NC

TA-W-64,364; Westlake USA, Inc., A Subsidiary of Glabman-Himes, High Point, TN

The workers' firm does not produce an article as required for certification under Section 222 of the Trade Act of 1974.

TA-W-64,205; The Ohio Heart and Vascular Center, Transcription Department, Cincinnati, OH

TA-W-64,272; The Nielsen Company (US), LLC, Fond du Lac, MA

The investigation revealed that criteria of Section 222(b)(2) has not been met. The workers' firm (or subdivision) is not a supplier to or a downstream producer for a firm whose workers were certified eligible to apply for TAA.

None.

I hereby certify that the aforementioned determinations were issued during the period of November 17 through November 21, 2008. Copies of these determinations are available for inspection in Room C-5311, U.S. Department of Labor, 200 Constitution Avenue, NW., Washington, DC 20210 during normal business hours or will be mailed to persons who write to the above address.

Dated: December 3, 2008.
Erin Fitzgerald,
Director, Division of Trade Adjustment Assistance.

[FR Doc. E8-29169 Filed 12-9-08; 8:45 am]

BILLING CODE 4510-FN-P